DEPARTMENT OF HOMELAND SECURITY

Federal Emergency Management Agency

[Docket ID FEMA-2015-0001; Internal Agency Docket No. FEMA-B-1468]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: January 16, 2015.
Roy E. Wright,
Deputy Associate Administrator for Mitigation, Department of Homeland Security, Federal Emergency Management Agency.

State and county | Location and case No. | Chief executive officer of community | Community map repository | Online location of letter of map revision | Effective date of modification | Community No.
Alabama:
Montgomery | City of Montgomery (15-04-0121P) | The Honorable Todd Strange, Mayor, City of Montgomery, P.O. Box 1111, Montgomery, AL 36104 | City Hall, 103 North Perry Street, Montgomery, AL 36104 | http://www.msc.fema.gov/lomc | Apr. 6, 2015 | 010174
Shelby | City of Pelham (14-04-9726P) | The Honorable Gary Waters, Mayor, City of Pelham, 3162 Pelham Parkway, Pelham, AL 35124 | City Hall, 3162 Pelham Parkway, Pelham, AL 35124 | http://www.msc.fema.gov/lomc | Apr. 9, 2015 | 010193
California:
Colusa | Unincorporated areas of Colusa County (14-09-4391P) | The Honorable Kimberly Dolbow Vann, Chair, Colusa County Board of Supervisors, 546 Jay Street, Colusa, CA 95932 | Colusa County Department of Public Works, 1215 Market Street, Colusa, CA 95932 | http://www.msc.fema.gov/lomc | Apr. 9, 2015 | 060022
Sacramento | Unincorporated areas of Sacramento County (14-09-1646P) | The Honorable Jimmie R. Yee, Chairman, Sacramento County Board of Supervisors, 700 H Street, Suite 2450, Sacramento, CA 95814 | Sacramento County Department of Water Resources, 827 7th Street, Suite 301, Sacramento, CA 95814 | http://www.msc.fema.gov/lomc | Apr. 2, 2015 | 060262
Santa Clara | Town of Los Altos Hills (15-09-0041P) | The Honorable John Radford, Mayor, Town of Los Altos Hills, 26379 Fremont Road, Los Altos Hills, CA 94022 | Public Works Department, 26379 Fremont Road, Los Altos Hills, CA 94022 | http://www.msc.fema.gov/lomc | Apr. 2, 2015 | 060342
Colorado:
El Paso | Unincorporated areas of El Paso County (14-08-1121P) | The Honorable Dennis Hisey, Chairman, El Paso County Board of Commissioners, 200 South Cascade Avenue, Suite 100, Colorado Springs, CO 80903 | El Paso County Regional Building Department, 101 West Costilla Street, Colorado Springs, CO 80903 | http://www.msc.fema.gov/lomc | Mar. 24, 2015 | 080059
Florida:
Charlotte | Unincorporated areas of Charlotte County (14-04-8892P) | The Honorable Ken Doherty, Chairman, Charlotte County Board of Commissioners, 18500 Murdock Circle, Suite 536, Port Charlotte, FL 33948 | Charlotte County Community Development Department, 18500 Murdock Circle, Port Charlotte, FL 33948 | http://www.msc.fema.gov/lomc | Apr. 2, 2015 | 120061
Charlotte | Unincorporated areas of Charlotte County (14-04-A501P) | The Honorable Ken Doherty, Chairman, Charlotte County Board of Commissioners, 18500 Murdock Circle, Suite 536, Port Charlotte, FL 33948 | Charlotte County Community Development Department, 18500 Murdock Circle, Port Charlotte, FL 33948 | http://www.msc.fema.gov/lomc | Apr. 13, 2015 | 120061
Collier | Unincorporated areas of Collier County (14-04-3496P) | The Honorable Tom Henning, Chairman, Collier County, Board of Commissioners, 3299 Tamiami Trail East, Suite 303, Naples, FL 34112 | Collier County Planning and Zoning Department, 2800 North Horseshoe Drive, Naples, FL 34104 | http://www.msc.fema.gov/lomc | Apr. 2, 2015 | 120067
Duval | City of Jacksonville (14-04-8973P) | The Honorable Alvin Brown, Mayor, City of Jacksonville, 117 West Duval Street, Suite 400, Jacksonville, FL 32202 | Development Services Department, 214 Hogan Street North, Jacksonville, FL 32202 | http://www.msc.fema.gov/lomc | Mar. 24, 2015 | 120077
Miami-Dade | City of Miami (14-04-7292P) | The Honorable Tomas Regalado, Mayor, City of Miami, 3500 Pan American Drive, Miami, FL 33133 | Emergency Management Department, 444 Southwest 2nd Avenue, 10th Floor, Miami, FL 33130 | http://www.msc.fema.gov/lomc | Apr. 2, 2015 | 120650
Miami-Dade | City of Sunny Isles Beach (14-04-A336P) | The Honorable Norman S. Edelcup, Mayor, City of Sunny Isles Beach, 18070 Collins Avenue, Sunny Isles Beach, FL 33160 | City Hall, 18070 Collins Avenue, Sunny Isles Beach, FL 33160 | http://www.msc.fema.gov/lomc | Apr. 13, 2015 | 120688
Sarasota | Unincorporated areas of Sarasota County (14-04-7975P) | The Honorable Charles D. Hines, Chairman, Sarasota County Board of Commissioners, 1660 Ringling Boulevard, Sarasota, FL 34236 | Sarasota County Zoning Administration Center, 400 South Tamiami Trail, Venice, FL 34293 | http://www.msc.fema.gov/lomc | Apr. 6, 2015 | 125144
Georgia:
Columbia | Unincorporated areas of Columbia County (14-04-A219P) | The Honorable Ron C. Cross, Chairman, Columbia County Board of Commissioners, P.O. Box 498, Evans, GA 30809 | Columbia County Stormwater Utility Department, 630 Ronald Reagan Drive, Building B, 2nd Floor, Evans, GA 30809 | http://www.msc.fema.gov/lomc | Apr. 9, 2015 | 130059
New Jersey:
Somerset | Township of Bridgewater (14-02-2373P) | The Honorable Daniel J. Hayes, Mayor, Township of Bridgewater, 100 Commons Way, Bridgewater, NJ 08807 | Department of Code Enforcement, 700 Garretson Road, Bridgewater, NJ 08807 | http://www.msc.fema.gov/lomc | Apr. 9, 2015 | 340432
North Carolina:
Durham | City of Durham (14-04-4200P) | The Honorable William V. Bell, Mayor, City of Durham, 101 City Hall Plaza, Durham, NC 27701 | Public Works Department, 101 City Hall Plaza, Durham, NC 27701 | http://www.msc.fema.gov/lomc | Feb. 17, 2014 | 370086
Gaston | City of Gastonia (14-04-A889P) | The Honorable John Bridgeman, Mayor, City of Gastonia, P.O. Box 1748, Gastonia, NC 28053 | Garland Municipal Business Center, 150 South York Street, Gastonia, NC 28052 | http://www.msc.fema.gov/lomc | Mar. 16, 2015 | 370100
Union | Town of Indian Trail (14-04-A516P) | The Honorable Michael Alvarez, Mayor, Town of Indian Trail, P.O. Box 2430, Indian Trail, NC 28079 | Engineering Department, 130 Blythe Drive, Indian Trail, NC 28079 | http://www.msc.fema.gov/lomc | Mar. 30, 2015 | 370235
Union | Unincorporated areas of of Union County (14-04-A516P) | The Honorable Frank Aikmus, Chairman, Union County Board of Commissioners, 500 North Main Street, Room 921, Monroe, NC 28112 | Union County Planning Department, 500 North Main Street, Monroe, NC 28112 | http://www.msc.fema.gov/lomc | Mar. 30, 2015 | 370234
North Dakota:
Stark | Unincorporated areas of Stark County (14-08-1100P) | The Honorable Russ Hoff, Chairman, Stark County Board of Commissioners, P.O. Box 130, Dickinson, ND 58602 | Stark County Recorder's Office, 51 3rd Street East, Dickinson, ND 58601 | http://www.msc.fema.gov/lomc | Apr. 2, 2015 | 385369
South Carolina:
Beaufort | Town of Bluffton (14-04-5124P) | The Honorable Lisa Sulka, Mayor, Town of Bluffton, 20 Bridge Street, Bluffton, SC 29910 | Growth Management Customer Service Center, 20 Bridge Street, Bluffton, SC 29910 | http://www.msc.fema.gov/lomc | Apr. 13, 2015 | 450251
Charleston | City of Charleston (14-04-9826P) | The Honorable Joseph P. Riley, Jr., Mayor, City of Charleston, P.O. Box 652, Charleston, SC 29402 | Engineering Department, 75 Calhoun Street, Division 301, Charleston, SC 29401 | http://www.msc.fema.gov/lomc | Apr. 2, 2015 | 455412
Charleston | Town of Mount Pleasant (14-04-9102P) | The Honorable Linda Page, Mayor, Town of Mount Pleasant, 100 Ann Edwards Lane, Mount Pleasant, SC 29464 | Planning Department, 100 Ann Edwards Lane, Mount Pleasant, SC 29464 | http://www.msc.fema.gov/lomc | Mar. 23, 2015 | 455417
South Dakota:
Brown | City of Aberdeen (14-08-1017P) | The Honorable Mike Levsen, Mayor, City of Aberdeen, 123 South Lincoln Street, Aberdeen, SD 57401 | City Engineer's Office, 123 South Lincoln Street, Aberdeen, SD 57401 | http://www.msc.fema.gov/lomc | Mar. 26, 2015 | 460007
Tennessee:
Wilson | City of Mt. Juliet (14-04-5022P) | The Honorable Ed Hagerty, Mayor, City of Mt. Juliet, 2425 North Mt. Juliet Road, Mt. Juliet, TN 37122 | City Hall, 2425 North Mt. Juliet Road, Mt. Juliet, TN 37122 | http://www.msc.fema.gov/lomc | Mar. 19, 2015 | 470290
Utah:
Davis | City of Kaysville (14-08-0801P) | The Honorable Steve A. Hiatt, Mayor, City of Kaysville, 23 East Center Street, Kaysville, UT 84037 | City Hall, 23 East Center Street, Kaysville, UT 84037 | http://www.msc.fema.gov/lomc | Mar. 26, 2015 | 490046
Salt Lake | City of West Jordan (14-08-0959P) | The Honorable Kim V. Rolfe, Mayor, City of West Jordan, 8000 South Redwood Road, West Jordan, UT 84088 | City Hall, 8000 South Redwood Road, West Jordan, UT 84088 | http://www.msc.fema.gov/lomc | Apr. 2, 2015 | 490108
Washington | City of St. George (14-08-1007P) | The Honorable Jon Pike, Mayor, City of St. George, 175 East 200 North, St. George, UT 84770 | Engineering Department, 175 East 200 North, St. George, UT 84770 | http://www.msc.fema.gov/lomc | Feb. 19, 2015 | 490177

[FR Doc. 2015-02509 Filed 2-6-15; 8:45 am]

BILLING CODE 9110-12-P